GENERAL SERVICES ADMINISTRATION

[OMB Control No. 3090-0248: Docket No. 2015-0001; Sequence No. 5]

Submission to OMB for Review; General Services Administration Acquisition Regulation; Information Collection; Solicitation Provisions and Contract Clauses; Placement of Orders Clause; and Ordering Information Clause

AGENCY: Office of Acquisition Policy, General Services Administration (GSA).

ACTION: Notice of request for public comments regarding an extension to an existing OMB clearance.

SUMMARY: Under the provisions of the Paperwork Reduction Act, the Regulatory Secretariat will be submitting to the Office of Management and Budget (OMB) a request to review and approve an extension of a previously approved information collection requirement regarding solicitation provisions and contract clauses, placement of orders clause, and ordering information clause. A notice was published in the Federal Register at 80 FR 13004 on March 12, 2015. No comments were received.

DATES: Submit comments on or before: July 6, 2015.

FOR FURTHER INFORMATION CONTACT: Christina Mullins, Procurement Analyst, General Services Acquisition Policy Division, GSA, by phone at 202-969-4066 or by email at christina.mullins@gsa.gov.

ADDRESSES: Submit comments identified by Information Collection 3090-0248, Solicitation Provisions and Contract Clauses, Placement of Orders Clause, and, Ordering Information Clause, by any of the following methods:

• Regulations.gov: http://www.regulations.gov. Submit comments via the Federal eRulemaking portal by searching for Information Collection 3090-0248. Select the link “Comment Now” that corresponds with “Information Collection 3090-0248, Solicitation Provisions and Contract Clauses, Placement of Orders Clause, and Ordering Information Clause”. Follow the instructions on the screen. Please include your name, company name (if any), and “Information Collection 3090-0248, Solicitation Provisions and Contract Clauses, Placement of Orders Clause, and Ordering Information Clause” on your attached document.

• Mail: General Services Administration, Regulatory Secretariat Division (MVCB), 1800 F Street NW., Washington, DC 20405. ATTN: Ms. Flowers/IC 3090-0248, Solicitation Provisions and Contract Clauses; Placement of Orders Clause; and Ordering Information Clause.

Instructions: Please submit comments only and cite Information Collection 3090-0248, Solicitation Provisions and Contract Clauses, Placement of Orders Clause, and Ordering Information Clause, in all correspondence related to this collection. All comments received will be posted without change to http://www.regulations.gov, including any personal and/or business confidential information provided.

SUPPLEMENTARY INFORMATION:

A. Purpose

The General Services Administration (GSA) has various mission responsibilities related to the acquisition and provision of the Federal Acquisition Service's (FAS's) Stock, Special Order, and Schedules Programs. These mission responsibilities generate requirements that are realized through the solicitation and award of various types of FAS contracts. Individual solicitations and resulting contracts may impose unique information collection and reporting requirements on contractors, not required by regulation, but necessary to evaluate particular program accomplishments and measure success in meeting program objectives. As such, the General Services Administration Acquisition Regulation (GSAR) 516.506, Solicitation provision and clauses, specifically directs contracting officers to insert 552.216-72, Placement of Orders, when the contract authorizes FAS and other activities to issue delivery or task orders and 552.216-73, Ordering Information, directs the Offeror to elect to receive orders placed by FAS by either facsimile transmission or computer-to-computer Electronic Data Interchange (EDI).

B. Annual Reporting Burden

Since the first notice of an extension request was posted, updated data for the number of respondents was obtained. The number of vendors, i.e. respondents, electing to receive orders electronically has increased significantly since the last information collection renewal. The increased vendor interest is likely the result of general adoption of technology advancements and implementation support from the GSA Vendor Support Center. The resulting updated total burden hours is detailed below.

Respondents: 26,756.

Responses per Respondent: 1.

Annual Responses: 26,756.

Hours per Response: .25.

Total Burden Hours: 6,689.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the General Services Administration, Regulatory Secretariat Division (MVCB), 1800 F Street NW., Washington, DC 20405, telephone 202-501-4755. Please cite OMB Control No. 3090-0248, Solicitation Provisions and Contract Clauses, Placement of Orders Clause, and Ordering Information Clause, in all correspondence.

Dated: May 29, 2015.
Jeffrey A. Koses
Director, Office of Acquisition Policy. Office of Government-wide Policy.

[FR Doc. 2015-13703 Filed 6-3-15; 8:45 am]

BILLING CODE 6820-61-P